DEPARTMENT OF TRANSPORTATION

Federal Motor Carrier Safety Administration

[Docket No. FMCSA-2007-29251]

Agency Information Collection Activities; Withdrawal of Notice for Emergency Approval of a New Information Collection: Commercial Vehicle Driver Survey: Truck Driver Hours of Service and Fatigue Management

AGENCY: Federal Motor Carrier Safety Administration (FMCSA), DOT.

ACTION: Notice; withdrawal of notice for emergency information collection request.

SUMMARY: The FMCSA published a notice in the Federal Register on March 21, 2008 (73 FR 15253), requesting an emergency approval of a proposed new information collection that would be used to analyze the impact of the new Hours-of-Service regulations on drivers and the effects of these regulations on driver fatigue. The new information collection would also acquire general demographic information regarding the commercial motor vehicle driving population. The FMCSA has determined that this information collection request will not be conducted at this time.

FOR FURTHER INFORMATION CONTACT: Mr. Robert Carroll, Senior Transportation Specialist, MC-RRR, Federal Motor Carrier Safety Administration, 6th Floor, West Building, 1200 New Jersey Ave., SE., Washington, DC 20590. Telephone: (202) 385-2388. E-mail: robert.carroll@dot.gov.

Issued on: April 28, 2008.
Terry Shelton,
Associate Administrator for Research and Information Technology.

[FR Doc. E8-9690 Filed 5-1-08; 8:45 am]

BILLING CODE 4910-EX-P